DEPARTMENT OF TRANSPORTATION

Pipeline and Hazardous Materials Safety Administration

Pipeline Safety: Request for Special Permits

[Docket No. PHMSA-2019-0080] Williams—Transcontinental Gas Pipeline Company

[Docket No. PHMSA-2019-0081] Williams—Transcontinental Gas Pipeline Company

[Docket No. PHMSA-2019-0082] Williams—Transcontinental Gas Pipeline Company

[Docket No. PHMSA-2019-0083] Williams—Transcontinental Gas Pipeline Company

[Docket No. PHMSA-2019-0084] Williams—Transcontinental Gas Pipeline Company

[Docket No. PHMSA-2019-0085] Williams—Transcontinental Gas Pipeline Company

[Docket No. PHMSA-2019-0142] Williams—Northwest Pipeline Company

AGENCY: Pipeline and Hazardous Materials Safety Administration (PHMSA); DOT.

ACTION: Notice.

SUMMARY: PHMSA is publishing this notice to solicit public comment on several requests for special permit from Williams —Transcontinental Gas Pipeline Company (Transco) and Williams—Northwest Pipeline Company (Northwest), seeking relief from compliance with certain requirements in the Federal Pipeline Safety Regulations. After the 30-day comment period, PHMSA will review the comments received from this notice as part of its evaluation to grant or deny the special permit requests.

DATES: Submit any comments regarding these special permit requests by December 19, 2019.

ADDRESSES: Comments should reference the docket number for the specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Privacy Act: There is a privacy statement published on http://www.Reglations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “PROPIN” or “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Ms. Kay McIver at 1200 New Jersey Avenue SE, E24-443, Washington, DC 20590, or emailed to her at kay.mciver@dot.gov. Any commentary PHMSA receives that is not specifically designated as CBI will be placed in the public docket for this matter.

FOR FURTHER INFORMATION CONTACT:

General: Ms. Kay McIver by telephone at 202-366-0113, or email at kay.mciver@dot.gov.

Technical: Mr. Steve Nanney by telephone at 713-272-2855, or by email at steve.nanney@dot.gov.

SUPPLEMENTARY INFORMATION: PHMSA received six (6) special permit requests from the Transcontinental Gas Pipeline Transco, and one (1) special permit request from Northwest. Transco and Northwest are subsidiaries of the Williams Company. Transco and Northwest operate interstate gas transmission pipelines and both are seeking waivers from 49 CFR 192.611 for segments where the class location has changed from a Class 1 to a Class 3 location.

The requests, proposed special permits with conditions, and Draft Environmental Assessments (DEAs) for the Transco and Northwest pipelines are available for public view and comments in the respective dockets at http://www.Regulations.gov. We invite interested persons to participate by reviewing the special permit requests and DEAs at https://www.Regulations.gov, and by submitting written comments, data, or other views. Please include any comments on potential safety and environmental impacts that may result if the special permit is granted.

Details of the six (6) Transco and one (1) Northwest requested special permits are as follows:

Docket No. | Requester | Regulation(s) | Nature of special permit
PHMSA-2019-0080 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for three (3) special permit segments of 0.19 miles of 30-inch diameter pipeline located on Mainline “A” in Guilford County, North Carolina, where the class location has changed from Class 1 to Class 3 location in 2017. Mainline “A” is a 1,750-mile interstate pipeline in the 10,500-mile Transco system that begins in Texas and runs northeast along the eastern side of the Appalachian Mountains to the New York City metropolitan area. Mainline “A” was installed in 1950 and transports natural gas from the Gulf of Mexico and the Marcellus region of Pennsylvania to population centers, industrial customers, and other pipelines.
|  |  | Transco operates the Mainline “A” proposed special permit segments in the Guilford County, North Carolina area at a maximum allowable operating pressure (MAOP) of 780 pounds per square inch gauge (psig).
PHMSA-2019-0081 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for one (1) special permit segment of 0.36 miles of 30-inch diameter pipeline located on Mainline “A” in Hartford County, Maryland, where the class location has changed from Class 1 to Class 3 location in 2017. Mainline “A” is a 1,750-mile interstate pipeline in the 10,500-mileTransco system that begins in Texas and runs northeast along the eastern side of the Appalachian Mountains to New York City metropolitan area. Mainline “A” was installed in 1950 and transports natural gas from the Gulf of Mexico and the Marcellus region of Pennsylvania to population centers, industrial customers and other pipelines.
|  |  | The MAOP for Mainline “A” in the special permit segment is 780 psig.
PHMSA-2019-0082 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for one (1) special permit segment of 0.35 miles of 30-inch diameter pipeline located on Mainline “B” in Hartford County, Maryland, where the class location has changed from Class 1 to Class 3 location in 2017. Mainline “B” is a 1,525-mile interstate pipeline in the 10,500-mile Transco system that begins in Texas and runs northeast along the eastern side of the Appalachian Mountains to New York City metropolitan area. Mainline “B” was installed in 1955 and transports natural gas from the Gulf of Mexico and the Marcellus region of Pennsylvania to population centers, industrial customers and other pipelines.
|  |  | The MAOP for Mainline “B” in the special permit segment is 780 psig.
PHMSA-2019-0083 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for one (1) special permit segment where the class location has changed from Class 1 to Class 3 location in 2017, and eleven (11) additional special permit segments that experienced class changes in 2008 and 2015. The total mileage of all special permit segments is 2.36 miles of 30-inch diameter pipeline. These changes are on the pipeline segments located on Mainline “A” in Greenville County, South Carolina. Mainline “A” is a 1,750-mile interstate pipeline in the 10,500-mile Transco system that begins in Texas and runs northeast along the eastern side of the Appalachian Mountains to New York City metropolitan area. Mainline “A” was installed in 1950 and transports natural gas from the Gulf of Mexico and the Marcellus region of Pennsylvania to population centers, industrial customers, and other pipelines.
|  |  | The MAOP for Mainline “A” special permit segments are either 780 psig or 650 psig. Transco is proposing to uprate the MAOPs of eleven (11) special permit segments that operate at 650 psig to 780 psig.
PHMSA-2019-0084 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for one (1) special permit segment of pipeline located on Mainline “B” in Greenville County, South Carolina where the class location has changed from Class 1 to Class 3 location in 2017, and twelve (12) additional segments that experienced class changes in 2008 and 2015. The total mileage of all special permit segments is 2.18 miles of 36-inch diameter pipeline. Mainline “B” is a 1,525-mile interstate pipeline in the 10,500-mile Transco natural gas system that begins in Texas and runs northeast along the eastern side of the Appalachian Mountains to New York City metropolitan area. Mainline “B” was installed in 1957 and transports natural gas from the Gulf of Mexico and the Marcellus region of Pennsylvania to population centers, industrial customers, and other pipelines.
|  |  | The MAOPs for Mainline “B” in the special permit segments are either 780 psig or 704 psig. Transco is proposing to uprate the MAOPs for twelve (12) special permit segments that operate at 704 psig to 780 psig.
PHMSA-2019-0085 | Transcontinental Gas Pipe Line Company, LLC (Transco) | 49 CFR 192.611 | To authorize Transco a special permit to waive compliance with the requirements of 49 CFR 192.611 “Change in Class Location: Confirmation or Revision of Maximum Allowable Operating Pressure”. This special permit is being requested in lieu of pipe replacement or pressure reduction for two (2) special permit segment of 0.26 miles of 36-inch diameter pipeline located on Mainline “C” in Greenville County, South Carolina, where the class location has changed from Class 1 to Class 3 location in 2017 and 2018. Mainline “C” is a 1,345-mile interstate pipeline in the 10,500-mile Transco system that begins in Texas and runs northeast along the eastern side of the Appalachian Mountains to New York City metropolitan area. Mainline “C” was installed in 1961 and transports natural gas from the Gulf of Mexico and the Marcellus region of Pennsylvania to population centers, industrial customers, and other pipelines.
|  |  | The MAOP for Mainline “C” in the special permit segment is 780 psig.
PHMSA-2019-0142 | Northwest Pipeline Company, LLC (Northwest) | 49 CFR 192.611 | To authorize Northwest a special permit to waive compliance with the requirements of 49 CFR 192.611 “Change in Class Location: Confirmation or Revision of Maximum Allowable Operating Pressure”. This special permit is being requested in lieu of pipe replacement or pressure reduction for one (1) special permit segment of 0.13 miles of 20-inch diameter pipeline located on the Spokane Lateral in Franklin County, Washington, where the class location has changed from Class 1 to Class 3 location in 2018. The Spokane Lateral is a 165- mile interstate transmission pipeline and transports natural gas from Plymouth, Washington to the Spokane, Washington area.
|  |  | The MAOP for the Spokane Lateral in the special permit segment is 811 psig.

Before issuing a decision on the special permit requests, PHMSA will evaluate all comments received on or before the comment closing date. Comments received after the closing date will be evaluated if it is possible to do so without incurring additional expense or delay. PHMSA will consider each relevant comment we receive in making our decision to grant or deny a request.

Issued in Washington, DC, under authority delegated in 49 CFR 1.97.
Alan K. Mayberry,
Associate Administrator for Pipeline Safety.

[FR Doc. 2019-25045 Filed 11-18-19; 8:45 am]

BILLING CODE 4910-60-P